COMMODITY FUTURES TRADING COMMISSION

Sunshine Act Meetings

Time and Date: 11 a.m., Friday, November 14, 2003.

Place: 1155 21st St., NW., Washington, DC., Room 1012

Status: Closed.

Matters to be Considered: Surveillance Meeting.

FOR FURTHER INFORMATION CONTACT: Jean A. Webb, (202) 418-5100.

Jean A. Webb,
Secretary of the Commission.

[FR Doc. 03-26780 Filed 10-20-03; 1:19 pm]

BILLING CODE 6351-01-M